DEPARTMENT OF TRANSPORTATION

Pipeline and Hazardous Materials Safety Administration

[Docket No. PHMSA-05-21019 (Notice No. 05-03)]

Hazardous Materials: Regulations for the Safe Transport of Radioactive Material (TS-R-1) and Advisory Material for the IAEA Regulations for the Safe Transport of Radioactive Materials (TS-G-1.1); Request for Comments

AGENCY: Pipeline and Hazardous Materials Safety Administration (PHMSA), DOT.

ACTION: Request for written comments.

SUMMARY: PHMSA will accept written comments pertaining to 28 proposed changes to the International Atomic Energy Agency's (IAEA) Regulations for the Safe Transport of Radioactive Materials, TS-R-1, scheduled for revision in the year 2007 as well as written comments on the proposed changes to the Advisory Material for the IAEA Regulations for the Safe Transport of Radioactive Materials, TS-G-1.1.

DATES: Written comments must be received by July 1, 2005. Comments received after this date will be considered if it is practical to do so.

ADDRESSES: You may submit comments identified by the docket number (PHMSA-05-21019 (Notice No. 05-03)) by any of the following methods:

• Web Site: http://dms.dot.gov. Follow the instructions for submitting comments on the DOT electronic docket site.

• Fax: 1-202-493-2251.

• Mail: Docket Management System; U.S. Department of Transportation, 400 Seventh Street, SW., Nassif Building, Room PL-402, Washington, DC 20590-001.

• Hand Delivery: To the Docket Management System; Room PL-402 on the plaza level of the Nassif Building, 400 Seventh Street, SW., Washington, DC between 9 a.m. and 5 p.m., Monday through Friday, except Federal Holidays.

• Federal eRulemaking Portal: Go to http://www.regulations.gov. Follow the online instructions for submitting comments.

Instructions: All submissions must include the agency name and docket number or Regulatory Identification Number (RIN) for this notice. For detailed instructions on submitting comments and additional information on the rulemaking process, see the Public Participation heading of the Supplementary Information section of this document. Note that all comments received will be posted without change to http://dms.dot.gov including any personal information provided. Please see the Privacy Act heading under Supplementary Information.

Docket: For access to the docket to read background documents or comments received, go to http://dms.dot.gov at any time or to the Docket Management System (see ADDRESSES).

FOR FURTHER INFORMATION CONTACT: Mr. Michael Conroy, Office of Hazardous Material Technology, U.S. Department of Transportation, Nassif Building, 400 Seventh Street, SW., Washington, DC 20590-0001; (202) 366-3597; Michael.Conroy@phmsa.dot.gov.

SUPPLEMENTARY INFORMATION:

I. Background

The purpose of this notice is to request public comments on the transport regulation changes proposed by the International Atomic Energy Agency (IAEA) as part of its ongoing regulatory review process. On April 7, 2005, the IAEA released for comment 28 proposed changes to the requirements of the 2005 Edition of the Agency's Regulations for the Safe Transport of Radioactive Material (TS-R-1) (see http://hazmat.dot.gov/regs/files/IAEA Draft Changes.htm). Comments submitted in response to this notice will be used to develop U.S. positions on the 28 proposed changes for the IAEA regulatory review meeting scheduled for September 5-9, 2005 in Vienna, Austria.

Any changes ultimately adopted by the IAEA may necessitate domestic compatibility rulemakings at a later date. Note that future domestic rulemakings, if necessary, will continue to follow established rulemaking procedures, including the opportunity to formally comment on proposed rules.

As part of its regulatory review process, the IAEA also reviews and revises as necessary, the accompanying advisory and explanatory material in TS-G-1.1. We are also requesting public comments on these changes to the advisory material.

The following documents are available for viewing and downloading on the Internet at: http://hazmat.dot.gov/regs/files/IAEA Draft Changes.htm.

• Table of the regulatory changes proposed by the IAEA

• A consolidated draft of the proposed TS-R-1 revisions

• A standard comment form for the proposed TS-R-1 revisions

• Table of the advisory material changes proposed by the IAEA

• A Consolidated draft of the proposed TS-G-1.1 revisions

• A standard comment form for the proposed TS-G-1.1 revisions

Although not required, electronic submission using the above referenced comment form is preferred. Note that proposals for additional changes to the regulations or the advisory material, beyond those listed in the above documents, are not being requested at this time.

II. Public Participation

Comments should identify the docket number (PHMSA-05-21019 (Notice No. 05-03)) and if sent by mail, comments are to be submitted in two copies. Persons wishing to receive confirmation of receipt of their comments should include a self-addressed stamped postcard. Internet users may access all comments received by the U.S. Department of Transportation at http://dms.dot.gov.

III. Privacy Act

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or may visit http://dms.dot.gov.

Issued in Washington, DC, on April 22, 2005.
Robert A. McGuire,
Associate Administrator for Hazardous Materials Safety.

[FR Doc. 05-8716 Filed 4-29-05; 8:45 am]

BILLING CODE 4910-60-P